GENERAL SERVICES ADMINISTRATION

President's Homeland Security Advisory Council

AGENCY: Office of Governmentwide Policy, General Services Administration.

ACTION: Notice of Federal Advisory Committee meeting.

SUMMARY: The President's Homeland Security Advisory Council (PHSAC or Council) will meet in an open session on Thursday, August 29, 2002, from 8:30 a.m. to 12:35 p.m., in the Indian Treaty Room of the Eisenhower Executive Office Building, 725 Seventeenth NW., Washington, DC. The PHSAC will meet to receive briefings and to discuss best practices in the areas of mergers/acquisitions, information technology, personnel management and related issues that may concern the creation of the proposed Department of Homeland Security, and homeland security in general.

Objectives: The President's Homeland Security Advisory Council was established by Executive Order 13260 (67 FR 13241, March 21, 2002). The objectives of the PHSAC are to provide advice and recommendations to the President of the United States through the Assistant to the President for Homeland Security on matters relating to homeland security.

Public Attendance: Due to limited availability of seating, members of the public will be admitted on a first-come, first-served basis. In addition, due to the security requirements of the Eisenhower Executive Office Building, any members of the public who wish to attend the meeting must provide their name, social security number, and date of birth no later than 5 p.m. EDT, Monday, August 26, 2002, to Mr. Fred Butterfield, General Services Administration, by phone: (202) 273-3566, or e-mail: fred.butterfield@gsa.gov. Photo identification will be required for entry into the building. Persons with disabilities who require assistance should indicate this in their message.

Public Comments: Members of the public who wish to file a written statement with the PHSAC may do so by mail to Mr. Fred Butterfield at the following address: President's Homeland Security Advisory Council, U.S. General Services Administration (GSA/MC, Room G230), 1800 F St. NW., Washington, DC 20405. Comments may also be sent to Fred Butterfield by e-mail at fred.butterfield@gsa.gov, or by facsimile (FAX) to (202) 273-3559.

Dated: August 9, 2002.
James L. Dean,
Director, Committee Management Secretariat, Office of Governmentwide Policy, General Services Administration.

[FR Doc. 02-20705 Filed 8-13-02; 8:45 am]

BILLING CODE 6820-34-P